DEPARTMENT OF ENERGY

Federal Energy Regulatory Commission

Sunshine Act Meeting Notice

April 10, 2008.

The following notice of meeting is published pursuant to section 3(a) of the government in the Sunshine Act (Pub. L. No. 94-409), 5 U.S.C. 552b:

Agency Holding Meeting: Federal Energy Regulatory Commission.

Date and Time: April 17, 2008, 10 a.m.

Place: Room 2C, 888 First Street, NE., Washington, DC 20426.

Status: Open.

Matters To Be Considered: Agenda.

Note —Items listed on the agenda may be deleted without further notice.

FOR FURTHER INFORMATION CONTACT: Kimberly D. Bose, Secretary, Telephone (202) 502-8400. For a recorded message listing items, struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

932th—Meeting
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RM04-7-001 | Market-Based Rates for Wholesale Sales of Electric Energy, Capacity and Ancillary Services by Public Utilities.
E-2 | RM08-7-000 | Modification of Interchange and Transmission Loading Relief Reliability Standards; and Electric Reliability Organization Interpretation of Specific Requirements of Four Reliability Standards.
E-3 | EL08-24-000 | Pacific Gas and Electric Company.
E-4 | EL08-23-000 | PPL Electric Utilities Corporation Public Service Electric and Gas Company.
E-5 | OMITTED
E-6 | ER08-404-000 | Midwest Independent Transmission System Operator, Inc.
E-7 | EL05-19-002 | Golden Spread Electric Cooperative, Inc., Lyntegar Electric Cooperative, Inc., Farmers' Electric Cooperative, Inc., Lea County Electric Cooperative, Inc., Central Valley Electric Cooperative, Inc. and Roosevelt County Electric Cooperative, Inc. v. Southwestern Public Service Company.
| ER05-168-001 | Southwestern Public Service Company.
E-8 | EL05-19-003 | Golden Spread Electric Cooperative, Inc., Lyntegar Electric Cooperative, Inc., Farmers' Electric Cooperative, Inc., Lea County Electric Cooperative, Inc., Central Valley Electric Cooperative, Inc. and Roosevelt County Electric Cooperative, Inc. v. Southwestern Public Service Company.
| ER05-168-002, ER06-274-008 | Southwestern Public Service Company.
E-9 | RM05-5-005 | Standards for Business Practices and Communication Protocols for Public Utilities.
E-10 | RR07-16-002 | North American Electric Reliability Corporation.
E-11 | ER08-389-000, ER08-389-001 | San Diego Gas & Electric Company.
E-12 | EC08-40-000 | Puget Energy, Inc., Puget Holdings LLC, Macquarie Infrastructure Partners, Macquarie Capital Group Limited, Canada Pension Plan Investment Board, British Columbia Investment Management Corporation Alberta Investment Management and Their Public Utility Affiliates.
E-13 | ER08-340-000 | Southwest Power Pool, Inc.
E-14 | ER96-1551-019 | Public Service Company of New Mexico.
| ER01-615-015, ER07-965-001 | EnergyCo Marketing and Trading, LLC.
E-15 | ER06-1474-002, ER06-1474-004 | PJM Interconnection, L.L.C.
E-16 | EL08-37-000 | Integrys Energy Group, Inc.
E-17 | OMITTED
E-18 | ER07-1096-002 | Niagara Mohawk Power Corporation.
E-19 | ER07-539-003, ER07-539-004, ER07-540-003, ER07-540-004 | Niagara Mohawk Power Corporation.
E-20 | OMITTED
E-21 | OMITTED
E-22 | ER05-715-003 | ISO New England, Inc.
E-23 | ER05-1410-000, EL05-148-000 | PJM Interconnection, L.L.C.
E-24 | AD08-7-000 | Annual Charges Assessments for Public Utilities.
E-25 | OA07-34-000 | Sierra Pacific Resources Operating Companies.
E-26 | ER05-1056-002 | Chehalis Power Generating, L.P.
E-27 | OA07-39-000 | Xcel Energy Operating Companies.
E-28 | ER07-1141-001, ER07-1144-002 | International Transmission Company, Michigan Electric Transmission Company, LLC, American Transmission Company, LLC Midwest Independent Transmission System Operator, Inc.
MISCELLANEOUS
M-1 | PL08-3-000 | Enforcement of Statutes, Regulations and Orders.
M-2 | PL08-2-000 | Obtaining Guidance on Regulatory Requirements.
M-3 | RM08-8-000 | Ex Parte Contacts and Separation of Functions.
M-4 | AD08-6-000 | Review of Notices of Penalty for Violations of Reliability Standards.
| RM05-30-002 | Rules Concerning Certification of the Electric Reliability Organization; and Procedures for the Establishment, Approval, and Enforcement of Electric Reliability Standards.
M-5 | RM01-5-000 | Electronic Tariff Filings.
GAS
G-1 | PL07-2-000 | Composition of Proxy Groups for Determining Gas and Oil Pipeline Return on Equity.
G-2 | PR05-17-000, PR05-17-002, PR05-17-004 | Duke Energy Guadalupe Pipeline, Inc.
G-3 | RP03-221-011 | High Island Offshore System, L.L.C.
G-4 | RP04-274-006, RP04-274-007 | Kern River Gas Transmission Company.
G-5 | RP01-245-023, RP06-569-002, RP07-338-001 | Transcontinental Gas Pipe Line Corporation.
HYDRO
H-1 | P-2114-116 | Public Utility District No. 2 of Grant County, Washington.
H-2 | P-12020-016 | Marseilles Hydro Power, LLC.
H-3 | P-2602-016 | Duke Energy Carolinas, LLC.
CERTIFICATES
C-1 | CP01-69-009 | Petal Gas Storage Company, L.L.C.

Kimberly D. Bose,
Secretary.

A free webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-8140 Filed 4-15-08; 8:45 am]

BILLING CODE 6717-01-P